DEPARTMENT OF COMMERCE

[A-533-820, A-560-812, A-570-865, A-583-835, A-549-817, A-823-811, C-533-821, C-560-813, C-549-818]

Certain Hot-Rolled Carbon Steel Flat Products From India, Indonesia, the People's Republic of China, Taiwan, Thailand, and Ukraine: Continuation of Antidumping and Countervailing Duty Orders

AGENCY: Enforcement and Compliance, International Trade Administration, Department of Commerce.

SUMMARY: As a result of the determinations by the Department of Commerce (Commerce) and the International Trade Commission (ITC) that revocation of the antidumping duty (AD) orders on certain hot-rolled carbon steel flat products from India, Indonesia, the People's Republic of China (China), Taiwan, Thailand, and Ukraine would likely lead to a continuation or recurrence of dumping and material injury to an industry in the United States, Commerce is publishing a notice of continuation of the AD orders. Additionally, as a result of the determinations by Commerce and the ITC that revocation of the countervailing duty (CVD) orders on certain hot-rolled carbon steel flat products from India, Indonesia, and Thailand would likely lead to continuation or recurrence of countervailable subsidies and material injury to an industry in the United States, Commerce is publishing a notice of continuation of the CVD orders.

DATES: Applicable August 27, 2019.

FOR FURTHER INFORMATION CONTACT: Jacqueline Arrowsmith at (202) 482-5255 (Thailand CVD order), or Chelsey Simonovich at (202) 482-1979 (India, Indonesia, China, Taiwan, Thailand, and Ukraine AD orders), or Jean Valdez at (202) 482-3855 (India and Indonesia CVD orders).

SUPPLEMENTARY INFORMATION:

Background

In 2001, Commerce published the AD orders on certain hot-rolled carbon steel flat products from India, Indonesia, the People's Republic of China, Taiwan, Thailand, and Ukraine and the CVD orders on certain hot-rolled carbon steel flat products from India, Indonesia, and Thailand.¹ On February 5, 2019, Commerce initiated the third five-year (sunset) reviews of the AD and CVD orders on certain hot-rolled carbon steel flat products from India, Indonesia, the People's Republic of China, Taiwan, Thailand, and Ukraine, pursuant to section 751(c) and 752 of the Tariff Act of 1930, as amended (the Act).² As a result of its reviews, Commerce found that revocation of these Orders would likely lead to continuation or recurrence of dumping and countervailable subsidies, and notified the ITC of the magnitude of the margins of dumping and the subsidy rates likely to prevail should these Orders be revoked.³

¹ See Notice of Amended Final Antidumping Duty Determination of Sales at Less Than Fair Value and Antidumping Duty Order: Certain Hot-Rolled Carbon Steel Flat Products from India, 66 FR 60194 (December 3, 2001); see also Antidumping Duty Order: Certain Hot-Rolled Carbon Steel flat Products from Indonesia, 66 FR 60192 (December 3, 2001); Notice of Amended Final Determination and Notice of Countervailing Duty Orders: Certain Hot-Rolled Carbon Steel Flat Products from India and Indonesia, 66 FR 60198 (December 3, 2001); Notice of Countervailing Duty Order: Certain Hot-Rolled Carbon Steel Flat Products from Thailand, 66 FR 60197 (December 3, 2001); Notice of Antidumping Duty Order: Certain Hot-Rolled Carbon Steel Flat Products from the People's Republic of China, 66 FR 59561 (November 29, 2001); Notice of Antidumping Duty Order; Certain Hot-Rolled Carbon Steel Flat Products from Taiwan, 66 FR 59563 (November 29, 2001); Antidumping Duty Order; Certain Hot-Rolled Carbon Steel Flat Products from Thailand, 66 FR 59562 (November 29, 2001); and Antidumping Duty Order: Certain Hot-Rolled Carbon Steel Flat from Ukraine, 66 FR 59559 (November 29, 2001), (collectively, the Orders).

² See Initiation of Five-Year (Sunset) Reviews, 83 FR 1705 (February 5, 2019).

³ See Certain Hot-Rolled Carbon Steel Flat Products from India and Indonesia: Final Results of the Expedited Sunset Reviews of the Countervailing Duty Orders, 84 FR 27242 (June 12, 2019); see also Certain Hot-Rolled Carbon Steel Flat Products from India, Indonesia, the People's Republic of China, Taiwan, Thailand, and Ukraine; Final Results of the Expedited Third Sunset Reviews of the Antidumping Duty Orders, 84 FR 26817 (June 10, 2019); and Certain Hot-Rolled Carbon Steel Flat Products from Thailand: Final Results of the Third Expedited Five Year (Sunset) Review of the Countervailing Duty Order, 84 FR 27085 (June 11, 2019).

On August 19, 2019, the USITC published its determination, pursuant to section 751(c)(1) and section 752(a) of the Act, that revocation of the AD orders on certain hot-rolled carbon steel flat products from India, Indonesia, China, Taiwan, Thailand, and Ukraine and the CVD orders on certain hot-rolled carbon steel flat products from India, Indonesia, and Thailand would likely lead to a continuation or recurrence of material injury to an industry in the United States within a reasonably foreseeable time.⁴

⁴ See Hot-Rolled Steel Products from China, India, Indonesia, Taiwan, Thailand, and Ukraine; Determination, 84 FR 42948 (August 19, 2019).

Scope of the Orders

The merchandise subject to the Orders is certain hot rolled carbon steel flat products. For a complete description of the scope of these Orders, see the Issues and Decision Memoranda.⁵

⁵ See Memorandum, “Issues and Decision Memorandum for the Final Results of the Expedited Third Sunset Reviews of the Countervailing Duty Orders on Certain Hot-Rolled Carbon Steel Flat Products from India and Indonesia,” dated June 5, 2019; see also Memorandum, “Issues and Decision Memorandum: Final Results of Expedited Third Sunset Reviews of the Antidumping Duty Orders on Certain Hot-Rolled Carbon Steel Flat Products from India, Indonesia, the People's Republic of China, Taiwan, Thailand, and Ukraine,” dated June 5, 2019; and Memorandum, “Issues and Decision Memorandum for the Final Results of the Third Expedited Five-Year Sunset Review of the Countervailing Duty Order on Certain Hot-Rolled Carbon Steel Flat Products from Thailand,” dated June 5, 2019.

Continuation of the Orders

As a result of the determinations by Commerce and the ITC that revocation of these Orders would likely lead to continuation or recurrence of dumping and countervailable subsidies, and material injury to an industry in the United States, pursuant to section 751(c) and section 751(d)(2) of the Act, Commerce hereby orders the continuation of the AD orders on certain hot-rolled carbon steel flat products from India, Indonesia, China, Taiwan, Thailand, and Ukraine and the continuation of the CVD orders on certain hot-rolled carbon steel flat products from India, Indonesia, and Thailand.

U.S. Customs and Border Protection will continue to collect cash deposits at the rates in effect at the time of entry for all imports of subject merchandise. The effective date of the continuation of these orders will be the date of publication in the Federal Register of this notice of continuation. Pursuant to section 751(c)(2) of the Act, Commerce intends to initiate the next five-year reviews of these orders not later than 30 days prior to the fifth anniversary of the effective date of continuation.

These five-year (sunset) reviews and this notice are in accordance with section 751(c) of the Act and published pursuant to section 777(i)(1) of the Act and 19 CFR 351.218(f)(4).

Dated: August 20, 2019.
Jeffrey I. Kessler,
Assistant Secretary for Enforcement and Compliance.

[FR Doc. 2019-18371 Filed 8-26-19; 8:45 am]

BILLING CODE 3510-DS-P